DEPARTMENT OF EDUCATION

Notice of Submission for OMB Review

AGENCY: Department of Education.

ACTION: Comment request.

SUMMARY: The Director, Information Collection Clearance Division, Information Management and Privacy Services, Office of Management, invites comments on the submission for OMB review as required by the Paperwork Reduction Act of 1995 (Pub. L. 104-13).

DATES: Interested persons are invited to submit comments on or before May 13, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: April 8, 2011.
Darrin A. King,
Director, Information Collection Clearance Division, Information Management and Privacy Services, Office of Management.

Institute of Education Sciences

Type of Review: Reinstatement.

Title of Collection: Baccalaureate and Beyond Longitudinal Study 2008/12 (B&B:08/12) Field Test 2011.

OMB Control Number: 1850-0729.

Agency Form Number(s): N/A.

Frequency of Responses: Annually.

Affected Public: Individuals or households.

Total Estimated Number of Annual Responses: 3,782.

Total Estimated Annual Burden Hours: 805.

Abstract: This request for OMB approval is to conduct a second follow-up field test for the Baccalaureate and Beyond Longitudinal Study of 2008/2012 (B&B:08/12), from June through October 2011. The primary purpose of the B&B series of studies is to describe the various paths of recent college graduates into employment and additional education. Baseline data for the B&B:08 cohort were collected as part of the National Postsecondary Student Aid Study (NPSAS:08). The first follow-up interview (B&B:08/09) collected information from respondents one year after they received their bachelor's degree; the second follow-up (B&B:08/12) will collect data four years after bachelor's degree receipt. Interview data will be supplemented with a variety of administrative data sources, including the Central Processing System, the National Student Loan Data System, and the National Student Clearinghouse. This request also requests a waiver of the 60-day Federal Register notice for the full-scale data collection package. Full-scale data collection will take place from July 2012 through March 2013.

Copies of the information collection submission for OMB review may be accessed from the RegInfo.gov Web site at http://www.reginfo.gov/public/do/PRAMain or from the Department's Web site at http://edicsweb.ed.gov, by selecting the “Browse Pending Collections” link and by clicking on link number 4416. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-8876 Filed 4-12-11; 8:45 am]

BILLING CODE 4000-01-P